DEPARTMENT OF TRANSPORTATION

Federal Highway Administration

Environmental Impact Statement: Montgomery and Grimes Counties, TX

AGENCY: Federal Highway Administration (FHWA), DOT.

ACTION: Notice of intent (revised).

SUMMARY: The FHWA is issuing this notice to advise the public that an environmental impact statement will be prepared for a proposed transportation project in Montgomery and Grimes Counties, Texas.

FOR FURTHER INFORMATION CONTACT: Mr. John Mack, P.E., Federal Highway Administration, Texas Division, 826 Federal Building, 300 East 8th Street, Austin, Texas 78701, Telephone 512-536-5960.

SUPPLEMENTARY INFORMATION: The FHWA, in cooperation with the Texas Department of Transportation (TxDOT) will prepare an environmental impact statement (EIS) for improvements in the SH 249 corridor within Montgomery and Grimes Counties, Texas. The project study area is approximately 15 miles in length from FM 149 in Montgomery County to FM 1774 in Grimes County. Cities within the study area include Pinehurst, Magnolia, and Todd Mission.

A Major Investment Study (MIS) for the project was completed in 2002. The MIS evaluated modal, configuration, and route corridor alternatives within the overall study area and recommended an alternative which was the most feasible modal, configuration, and route corridor that met the regions transportation needs, while minimizing impacts to the surrounding environment. The most feasible corridor alternative studied in the MIS was selected based on the detailed evaluation of the viable alternatives, as well as public input. This alternative encompasses two (2) general-purpose lanes in each direction, including auxiliary lanes between on-ramps and off-ramps where appropriate. The EIS will study the overall SH 249 corridor with all corridor alternatives considered in detail and recommend the most feasible corridor. The EIS is authorized pursuant to the Texas Transportation Commission Minute Order No. 104908 issued January 26, 1995.

A public scoping meeting will be held in December of 2003. The purpose of the public scoping meeting is to request comments and identify issues that will be considered during the evaluation of alignment alternatives and preparation of the EIS. All interested citizens are encouraged to attend these meetings. Large-scale maps of the project area will be displayed at the meeting. This will be the first in a series of meetings to solicit public comments on the proposed action. In addition, a public hearing will be held.

The EIS will evaluate potential impacts from construction and operation of the proposed roadway including, but not limited to, the following: transportation impacts (construction detours, construction traffic, mobility improvement and evacuation improvement), air, and noise impacts from construction equipment and operation of the facilities, water quality impacts from construction area and roadway storm water runoff, impacts to water of the United States including wetlands from right-of-way encroachment, impacts to historic and archeological resources, impacts to floodplains, and impacts and/or potential displacements to residents and businesses.

Letters describing the proposed action and soliciting comments will be sent to appropriate agencies, and private organizations and citizens who have previously expressed or are known to have interest in this proposal. To ensure that the full range of issues related to this proposed action are addressed and all significant issues identified, comments and suggestions are invited from all interested parties. Comments or questions concerning this proposed action and the EIS should be directed to FHWA at the address above.

(Catalog of Federal Domestic Assistance Program Number 20.205 Highway Planning and Construction. The regulations implementing Executive Order 12372 regarding governmental consultation on Federal Programs and activities apply to this program.)
John R. Mack,
District Engineer.

[FR Doc. 03-27365 Filed 10-29-03; 8:45 am]

BILLING CODE 4910-22-M